NATIONAL SCIENCE FOUNDATION

Advisory Committee For Computer and Information Science and Engineering; Meeting

In accordance with the Federal Advisory Committee Act (Pub. L. 92-463, as amended), the National Science Foundation announces the following meeting:

Name: Advisory Committee for Computer and Information Science and Engineering (1115)

Date and Time: October 26, 2000; 8:30 a.m. to 5:00 p.m., October 27, 2000; 8:30 a.m. to 2:00 p.m.

Place: Hilton Hotel Newark/Fremont, Newark, CA.

Type of Meeting: Open.

Contact Person: Gwen Barber-Blount, Office of the Assistant Director, Directorate for Computer and Information Science and Engineering, National Science Foundation, 4201 Wilson Blvd., Suite 1105, Arlington, VA 22230. Telephone: (703) 292-8900.

Minutes: May be obtained from the contact person listed above.

Purpose of Meeting: To advise NSF on the impact of its policies, programs and activities on the CISE community; to provide advice to the Assistant Director/CISE on the issues related to long range planning, and to form ad hoc subcommittees to carry out needed studies and tasks.

Agenda: Day 1—Discussion of Information Technology Research and CISE FY 2002 Budget. Day 2—Report from the Assistant Director and complete writing assignments on recommendations to the Director and Assistant Director.

Dated: August 18, 2000.
Karen J. York,
Committee Management Officer.

[FR Doc. 00-21554 Filed 8-22-00; 8:45 am]

BILLING CODE 7555-01-M